NUCLEAR REGULATORY COMMISSION

10 CFR Part 70

[NRC-2010-0271]

RIN 3150-AJ34

Domestic Licensing of Special Nuclear Material Written Reports and Clarifying Amendments

AGENCY: Nuclear Regulatory Commission.

ACTION: Direct final rule; confirmation of effective date.

SUMMARY: The U.S. Nuclear Regulatory Commission (NRC) is confirming the effective date of January 26, 2015, for the direct final rule that was published in the Federal Register on September 26, 2014. This direct final rule amended regulations related to reportable safety events involving special nuclear material. This rule increases the time licensees are allowed to submit a written follow-up report from within 30 days to within 60 days after the initial report of an event, updates the reporting framework for certain situations, and removes redundant reporting requirements.

DATES: The effective date of January 26, 2015, for the direct final rule published September 26, 2014 (79 FR 57721), is confirmed.

ADDRESSES: Please refer to Docket ID NRC-2010-0271 when contacting the NRC about the availability of information for this action. You may access publicly-available information related to this action by any of the following methods:

• Federal Rulemaking Web site: Go to http://www.regulations.gov and search for Docket ID NRC-2010-0271. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may access publicly-available documents online in the NRC Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

FOR FURTHER INFORMATION CONTACT: Keith McDaniel, Office of Nuclear Material Safety and Safeguards, U.S. Nuclear Regulatory Commission, Washington, DC 20555-0001, telephone: 301-415-5252, email: Keith.McDaniel@nrc.gov.

SUPPLEMENTARY INFORMATION:

I. Discussion

On September 26, 2014 (79 FR 57721), the NRC published a direct final rule amending its regulations in part 70 of Title 10 of the Code of Federal Regulations (10 CFR) to increase the time licensees are allowed to submit a written follow-up report from within 30 days to within 60 days after the initial report of an event, update the reporting framework for certain situations, and remove redundant reporting requirements. These amendments affect a licensee or an applicant that is, or plans to be, authorized to possess greater than a critical mass of special nuclear material.

II. Public Comments on the Companion Proposed Rule

A companion proposed rule was also published in the Federal Register on September 26, 2014 (79 FR 57840) which provided an opportunity for public comment. In the direct final rule, the NRC stated that if no significant adverse comments were received, the direct final rule would become effective on January 26, 2015. The substantive changes being made in this rulemaking are to reporting provisions in 10 CFR 70.74 and Appendix A to part 70. These changes increase the time—from 30 to 60 days—that licensees subject to part 70, Subpart H (Additional Requirements for Certain Licensees Authorized to Possess a Critical Mass of Special Nuclear Material) will have to submit a written follow-up report after the initial report of certain significant events to the NRC Operations Center.

The NRC received one public comment (ADAMS Accession No. ML14296A322). The commenter agrees with the proposed changes, but the commenter requested that the NRC also revise a 10 CFR 70.50 reporting provision that is within part 70, Subpart G (Special Nuclear Material Control, Records, Reports and Inspections). The commenter wants licensees subject to Subpart G to also be given 60 rather than 30 days to submit a written follow-up report.

The comment letter does not warrant the withdrawal of the direct final rule. The direct final rule is of limited scope, and arose from PRM-70-8 (ADAMS Accession No. ML091110449, dated April 16, 2009, filed by the Nuclear Energy Institute) that did not seek changes to 10 CFR 70.50. The commenter has not provided a sufficient basis to expand the direct final rule's scope to include revising the 30-day reporting requirement in 10 CFR 70.50, and the NRC does not agree with the commenter's claim that his proposal meets the criteria for being a significant adverse comment. Therefore, this rule will become effective as scheduled.

Dated at Rockville, Maryland, this 29th day of December, 2014.
For the Nuclear Regulatory Commission.
Carol Gallagher,
Acting Chief, Rules, Announcements, and Directives Branch, Division of Administrative Services, Office of Administration.

[FR Doc. 2014-30865 Filed 1-2-15; 8:45 am]

BILLING CODE 7590-01-P